DEPARTMENT OF AGRICULTURE

U.S. Codex Office

U.S. Codex Program: FY2019-2023 Strategic Plan

AGENCY: U.S. Codex Office, Department of Agriculture.

ACTION: Notice of public meeting and request for comments.

SUMMARY: The U.S Codex Office is finalizing the U.S. Codex Program's FY-2019-2023 Strategic Plan and is sponsoring a public meeting on November 2, 2018. The objective of the public meeting is to provide briefing information and receive public comments on the Plan's Goals and Objectives. The U.S Manager for Codex Alimentarius and the Under Secretary, Office of Trade and Foreign Agricultural Affairs recognize the importance of providing interested parties the opportunity to provide comments.

DATES: The public meeting is scheduled for Friday, November 2, 2018, at 10:00 a.m. to 12:00 p.m.

ADDRESSES: The public meeting will take place at the United States Department of Agriculture (USDA), Jamie L. Whitten Building, 1400 Independence Avenue SW, Room 107-A, Washington, DC 20250.

Call-In-Number: If you wish to participate in the public meeting please use the call-in-number: 1-888-844-9904. The participant code will be posted on the following web page: http://www.usda.gov/codex.

Registration and Comments: Attendees may register to attend the public meeting by emailing uscodex@osec.usda.gov by October 24th, 2018, and submit their comments electronically to that email address. Early registration is encouraged because it will expedite entry into the building. The meeting will take place in a Federal building. Attendees should bring photo identification and plan for adequate time to pass through the security screening systems. Attendees who are not able to attend the meeting in person, but who wish to participate, may do so by phone, as discussed above. For Further Information about the Public Meeting Contact: Sarah Lynch, U.S. Codex Office, 1400 Independence Avenue SW, Room 4861, South Agriculture Building, Washington, DC 20250. Phone: (202) 708-9515, Email: sarah.lynch@osec.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The U.S. Codex Program is a U.S. Government interagency partnership that engages stakeholders in advancing science-based international food standards to protect the health of consumers and ensure fair practices in the food trade. The U.S. Codex Office (USCO), housed in USDA's Trade and Foreign Agricultural Affairs mission area, acts as the national focal point for the U.S. Program. USCO manages the planning, support, policy development, and coordination of U.S. involvement in Codex, develops strategies to accomplish U.S. objectives, and serves as secretariat for U.S.-hosted committees.

Public Meeting

At the November 2, 2018, public meeting, U.S. Codex Program Goals and Objectives will be discussed, and attendees will have the opportunity to pose questions and offer comments. Written comments may be offered at the public meeting, or submitted after the meeting (by November 6, 2018) to sarah.lynch@osec.usda.gov (see ADDRESSES). Written comments should state that they relate to the FY2019-2023 U.S. Codex Program Strategic Plan.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC on October 16, 2018.
Mary Lowe,
U.S. Manager for Codex Alimentarius.

[FR Doc. 2018-22688 Filed 10-17-18; 8:45 am]

BILLING CODE P